DEPARTMENT OF TRANSPORTATION

Federal Highway Administration

Environmental Impact Statement; Maricopa County, AZ

AGENCY: Federal Highway Administration (FHWA), DOT.

ACTION: Notice of intent; correction.

SUMMARY: The FHWA is issuing this notice to advise the public that an environmental impact statement (EIS) will be prepared for a proposed highway project within Maricopa County, Arizona.

FOR FURTHER INFORMATION CONTACT: Kenneth H. Davis, District Engineer, Federal Highway Administration, 400 E Van Buren Street, Suite 410, Phoenix, AZ 85004, Telephone (602) 379-3646.

Correction

In the Federal Register of Tuesday, May 14, 2002, in FR Doc 02-11968, filed 2-1-02, 8:45 a.m. on page 34513, in the third column, correct the project limits to read as follows:

SUPPLEMENTARY INFORMATION: The FHWA in cooperation with the Arizona Department of Transportation is preparing an EIS for a proposal to build improvements on Interstate 10 from the south ramp of the I-10/SR 51/202L (Red Mountain Freeway) Traffic Interchange to the north ramps of the I-10/202L (Santan Freeway) Traffic Interchange in Maricopa County, Arizona. One addition to the project limits is as follows: (1) US60 from Hardy Drive to Mill Avenue.

Additional Correction: the address and telephone number for Federal Highway Administration has been changed to: 400 E. Van Buren Street, Suite 410, One Arizona Center, Phoenix, Arizona 85004, Telephone (602) 379-3646.

Dated: March 30, 2004.
Kenneth H. Davis,
District Engineer, Phoenix.

[FR Doc. 04-7955 Filed 4-7-04; 8:45 am]

BILLING CODE 4910-22-M